DEPARTMENT OF COMMERCE

International Trade Administration

[A-570-863]

Honey from the People’s Republic of China: Final Results and Rescission, In Part, of Aligned Antidumping Duty Administrative Review and New Shipper Review

AGENCY: Import Administration, International Trade Administration, Department of Commerce.

SUMMARY: On January 16, 2008, the Department published the preliminary results of the aligned fifth administrative review and tenth new shipper review of the antidumping duty order on honey from the People’s Republic of China (“PRC”). See Honey from the People’s Republic of China: Preliminary Results and Partial Rescission of Antidumping Duty Administrative Review, 73 FR 2890 (January 16, 2008) (“Preliminary Results”). These aligned reviews cover seven exporters or producer/exporters: (1) Dongtai Peak Honey Industry Co, Ltd. (“Dongtai Peak”) (2) Zhejiang Native Produce & Animal By-Products I/E Group Corporation (“Zhejiang Native”); (3) Wuhu Qinshi Tangye Co., Ltd. (“Wuhu Qinshi”); (4) Jiangsu Light Industry Products Imp & Exp (Group) Corp. (“Jiangsu Light”); (5) Qinhuangdao Municipal Dafeng Industrial Co., Ltd. (“QMD”); (6) Inner Mongolia Altin Bee-Keeping (“IMA”), and (7) QHD Sanhai Honey Co., Ltd. (“QHD Sanhai”). For these final results, the Department finds that Wuhu Qinshi, Jiangsu Light, QMD, and IMA failed to cooperate by not acting to the best of their ability to comply with the Department’s request for information and, as a result, have been assigned a rate based on adverse facts available (“AFA”). The Department has assigned Dongtai Peak and Zhejiang Native a separate rate for non-selected entities based on the calculation proposed by the Department.¹ Finally, after reexamining the bona fides of QHD Sanhai’s single sale, the Department finds that sale is not a bona fide transaction; therefore, for these final results, the Department has rescinded the review with respect to QHD Sanhai. The period of review (“POR”) is December 1, 2005, through November 30, 2006. See “Final Results of Review” section below.

EFFECTIVE DATE: July 21, 2008.

FOR FURTHER INFORMATION CONTACT: Bobby Wong or Susan Pulongbarit, AD/CVD Operations, Office 9, Import Administration, International Trade Administration, U.S. Department of Commerce, 14th Street and Constitution Avenue, NW, Washington, DC 20230; telephone: (202) 482-0409 or (202) 482-4031, respectively.

SUPPLEMENTARY INFORMATION:

Background

On January 16, 2008, we published in the Federal Register the preliminary results of the aligned 2005/2006 administrative and new shipper reviews. See Preliminary Results. The POR is December 1, 2005, through November 30, 2006.

On April 18, 2008, the Department invited parties to comment in their case briefs on the Department’s proposed methodology to calculate: 1) a rate for Zhejiang Native and Dongtai Peak, the separate rate entities in the instant review that were not selected for individual examination; and 2) a per-kilogram cash deposit rate for the separate rate entities and the PRC-wide entity. See Changes Since the Preliminary Results section below.

On April 25, 2008, the Department received case briefs from QHD Sanhai, Zhejiang Native, and the American Honey Producers Association and the Sioux Honey Association (collectively, “petitioners”). On May 6, 2008, the Department received rebuttal briefs from QHD Sanhai and petitioners. On May 20, 2008, the petitioners submitted new factual information on the record of the review regarding QHD Sanhai’s U.S. customer. On June 13, 2008, the Department accepted petitioners’ submission of new factual information and invited comments from parties regarding the new information. On June 23, 2008, the Department received comments from QHD Sanhai regarding the new factual information.

Scope of the Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this order is currently classifiable under subheadings 0409.00.00, 1702.90.90, and 2106.90.99 of the Harmonized Tariff Schedule of the United States (“HTSUS”). Although the HTSUS subheadings are provided for convenience and customs purposes, the Department’s written description of the merchandise under the order is dispositive.

Analysis of Comments Received

All issues raised in the briefs are addressed in the Issues and Decision Memorandum for the Final Results in the 2005-2006 Administrative Review and New Shipper Review of Honey from the People’s Republic of China from Stephen J. Claeys, Deputy Assistant Secretary, to David M. Spooner, Assistant Secretary, dated July 14, 2008, (“I&D Memo”), which is hereby adopted by this notice.² A list of the issues raised, all of which are in the I&D Memo, is attached to this notice as Appendix I. Parties can find a complete discussion of all issues raised in the briefs and the corresponding recommendations in this public memorandum, which is on file in the Central Records Unit (“CRU”), room 1117 of the Department of Commerce. In addition, a complete version of the I&D Memo can be accessed directly on the Web at http://trade.gov/ia. The paper copy and electronic version of the I&D Memo are identical in content.

Partial Rescission of Administrative Review

In the Preliminary Results, the Department issued a notice of intent to rescind this administrative review with respect to certain companies, as Mgl Yun Sheng Honey Co., Ltd. (“Mgl Yun Sheng”); Inner Mongolia Youth Trade Development Co., Ltd. (“Inner Mongolia Youth”); and Shanghai Bloom International Trading Co., Ltd. (“Shanghai Bloom”), certified that they did not export honey from China to the United States during the POR. See Preliminary Results, 73 FR 2890. The Department received no comments on this issue and there is no record evidence to challenge this finding. Therefore, the Department is rescinding this administrative review with respect to Inner Mongolia Youth, Mgl Yung Sheng, and Shanghai Bloom.

Finally, in light of comments from petitioners requesting a revision of the Department’s bona fides analysis, with respect to its analysis of U.S. Customs and Border Production (“CBP”) data, the Department has subsequently reevaluated the circumstances surrounding QHD Sanhai’s POR transaction and finds that the sale in question is not a bona fide transaction. Initially, in its bona fides analysis for the Preliminary Results, the Department analyzed the HTSUS subcategory 0409.00.0020: “NATURAL HONEY PACKAGED FOR RETAIL SALE.” For the final results, the Department finds that the HTSUS subcategory 0409.00.0025: “COMB HONEY AND HONEY PACKAGED FOR RETAIL SALE” is more appropriate because it is more specific to the subject merchandise sold by QHD Sanhai, and thus, the Department has reevaluated CBP data accordingly. As a result of our reevaluation and the change in HTS category examined, we have concluded that the single sale made by QHD Sanhai during the POR is not a bona fide commercial transaction based specifically on: 1) the high price and low quantity of QHD Sanhai’s single POR sale; and 2) other indicia of a non-bona fide transaction. In sum, the totality of circumstances leads the Department to find that QHD Sanhai’s single POR sale is a non-bona fide commercial transaction. Therefore, this sale does not provide a reasonable or reliable basis for calculating a dumping margin. As QHD Sanhai had no other sales of subject merchandise during the instant POR, the Department is rescinding the new shipper review with respect to QHD Sanhai. For further discussion of this issue, see Comment 1 of the Issues and Decision Memorandum; see also Memorandum to James C. Doyle, Director, AD/CVD Operations, Office 9, regarding the Final Bona Fides Analysis of QHD Sanhai Co., Ltd. in the Aligned Fifth Administrative and Tenth New Shipper Review of Honey From the People’s Republic of China, dated July 14, 2008.

Separate Rates

QMD, IMA, Zhejiang Native, and Dongtai Peak requested separate, company-specific antidumping duty rates. In the Preliminary Results, we found that Dongtai Peak and Zhejiang Native met the criteria for the application of a separate antidumping duty rate. Preliminary Results, 73 FR at 2893. Therefore, the Department has applied a rate to Dongtai Peak and Zhejiang Native separate from the rate established for the PRC-wide entity. Also in the Preliminary Results, the Department found that IMA and QMD ultimately ceased to participate in the administrative review, and hence do not qualify for separate rate status, but rather are appropriately considered to be part of the PRC-wide entity which is assigned an AFA rate of 221.02 percent. Id. The Department did not receive comments on this issue prior to these final results.

Use of Facts Otherwise Available and the PRC-Wide Rate

In the Preliminary Results, the Department found that QMD and IMA ceased participating in the administrative review, and both Wuhu Qinshi and Jiangsu Light did not respond to the Department’s multiple requests for information. As noted above, the Department found that these two entities did not establish their eligibility for separate rate status, and thus such entities are deemed part of the PRC-wide entity. As the Department found that the PRC-wide entity failed to cooperate to the best of its ability in responding to the Department’s requests for information, the Department assigned the PRC-wide entity a rate based on AFA. The Department did not receive comments prior to these final results regarding the Department’s preliminary application of AFA to the PRC-wide entity. See Preliminary Results, 73 FR 2890.

Therefore, for these final results, the Department has not altered its decision to apply total AFA to the PRC-wide entity in accordance with sections 776(a)(2)(A) and (B) and section 776(b) of the Tariff Act of 1930, as amended (“the Act”).

Changes Since the Preliminary Results

For the Preliminary Results, with respect to Zhejiang Native and Dongtai Peak, the two respondents in the administrative review eligible for a separate rate but not selected for individual examination, the Department preliminarily assigned the separate rate margin from the most recent segment of this proceeding in which such rate was issued, which in this case is the less than fair value investigation. We note, however, that in the second administrative review of honey from the PRC, the Department determined that per-kilogram antidumping duty cash deposit and assessment rates were appropriate. See Honey from the People’s Republic of China: Final Results and Final Rescission, In Part, of Antidumping Duty Administrative Review, 70 FR 38873 (July 6, 2005) (“AR2 Final Results”), and accompanying Issues and Decision Memorandum at Comment 7. The Department further stated that the quantity-based collection and assessment method would begin upon completion of those final results, and would be employed thereafter for all future reviews of this order. Given that the AR2 Final Results did not address per-kilogram rates for non-selected separate rate respondents or the PRC-wide entity, for the final results of the instant review, the Department proposed a new methodology to calculate: 1) a per-kilogram cash deposit rate for non-selected separate entities; and 2) a per-kilogram cash deposit rate for the PRC-wide entity. See April 18, 2008, Letter.

Calculation of Per-Kilogram Cash Deposit and Assessment Rates

For these final results, for Zhejiang Native and Dongtai Peak, the Department has assigned a cash deposit and assessment rate of $0.98 per-kilogram. In deriving this per-kilogram rate, the Department first determined the appropriate ad valorem rate to be applied to these entities which are eligible for separate rate status but not selected for individual examination. Although in its Preliminary Results, the Department applied an ad valorem rate to Zhejiang Native and Dongtai Peak based on the rate established for entities separate from the PRC-wide entity in the LFTV phase of this proceeding, in reexamining the record, the Department finds that the more recent calculated rates determined by the Department in the December 1, 2004, through November 30, 2005, review period are more contemporaneous and thus more appropriate for purposes of establishing a rate for non-selected separate entities in this POR. The Department calculated a simple average of the calculated rates for all respondents (inclusive of new shippers and administrative review companies) in the December 1, 2004, through November 30, 2005, POR (with the exception of rates based on total AFA and rates of de minimis). See April 18, 2008, Letter at Attachment I. The resulting ad valorem rate is 104.88 percent.

Next, to convert this ad valorem rate into a per-kilogram rate, the Department obtained from CBP, all “type 3” entries of subject merchandise under the relevant subheadings classifiable under HTSUS 0409.00.00, 1702.90.90, and 2106.90.99, as defined by the scope of the order, which entered the United States during the POR. The Department used the total quantity and total value of the entries to derive a weighted average unit price (“AUV”). We then multiplied the AUV by the ad valorem rate of 104.88%, calculated as described above. Finally, we took the resulting USD figure, which represents total antidumping duties owed and divided such by the quantity referenced above to arrive at a per-kilogram assessment and cash deposit rate of $0.98, to be applied to Zhejiang Native and Dongtai Peak.

To arrive at a per-kilogram rate for the PRC-wide rate entity, we began with the ad valorem AFA rate assigned to such entity for purposes of these final results. That rate is 221.02 percent. The Department then followed the same methodology outlined above, i.e., multiplying the ad valorem rate of 221.02 percent by the AUV for all imports of subject merchandise into the United States during the, and then divided the resulting figure representing total antidumping duties owed by the relevant quantity. For the PRC-wide entity, this calculation results in a per-kilogram assessment rate of $2.06.

In Honey from the People’s Republic of China: Final Results and Final Rescission, In Part, of Antidumping Duty Administrative Review, 72 FR 37715, (July 11, 2007), the Department found that the current PRC-wide entity rate did not need to be corroborated, as the rate was based on, and calculated from, information submitted by a respondent in the course of the administrative review; i.e., it is not secondary information. Similarly, for these final results, the Department finds that corroboration of the PRC-wide per-kilogram cash deposit assessment rate is not required because the per-kilogram cash deposit assessment rate is based on ad valorem rates which were calculated using information submitted by respondents in the course of the most recently completed review period (December 1, 2004, through November 30, 2005). See 19 CFR 351.308(c) and (d) and section 776(c) of the Tariff Act of 1930, as amended (the Act).

Final Results of Review

We determine that the following antidumping duty margins exist:

Exporter | Margin (per-kilogram)
Dongtai Peak Honey Industry Co., Ltd. | $0.98/Kg
Zhejiang Native Produce & Animal By-Products I/E Group Corporation | $0.98/Kg
PRC-Wide Rate (including QHD Sanhai, Wuhu Qinshi, Jiangsu Light, QMD, and IMA) | $2.06/Kg

Assessment of Antidumping Duties

Pursuant to section 751(a)(2)(A) of the Act and 19 CFR 351.212(b), the Department will determine, and CBP shall assess, antidumping duties on all appropriate entries. The Department intends to issue assessment instructions to CBP 15 days after the date of publication of these final results of review. For assessment purposes, where possible, we calculated importer-specific assessment rates for honey from the PRC on a per-unit basis. See Changes Since the Preliminary Results above. We will direct CBP to levy importer-specific assessment rates based on the resulting per-unit (i.e., per-kilogram) rates by the weight in kilograms of each entry of the subject merchandise during the POR.

Cash Deposits

The following cash-deposit requirements will be effective upon publication of these final results for shipments of the subject merchandise entered, or withdrawn from warehouse, for consumption on or after the publication date of these final results, as provided by section 751(a)(2)(C) of the Act: (1) for subject merchandise exported by Dongtai Peak and Zhejiang Native, the cash deposit rate will be $0.98 per kilogram; (2) the cash deposit rate for PRC exporters who received a separate rate in a prior segment of the proceeding will continue to be the rate assigned in that segment of the proceeding; (3) for all other PRC exporters of subject merchandise which have not been found to be entitled to a separate rate (including Wuhu Qinshi, Jiangsu Light, QMD, and IMA), the cash-deposit rate will be the PRC-wide rate of $2.06 per-kilogram; and (4) for all non-PRC exporters of subject merchandise, the cash-deposit rate will be the rate applicable to the PRC supplier of that exporter.

These deposit requirements shall remain in effect until publication of the final results of the next administrative review.

Notification to Interested Parties

This notice also serves as the final reminder to importers of their responsibility under 19 CFR 351.402(f) to file a certificate regarding the reimbursement of antidumping duties prior to liquidation of the relevant entries during this review period. Failure to comply with this requirement could result in the Secretary’s presumption that reimbursement of antidumping duties occurred and in the subsequent assessment of double antidumping duties.

This notice also serves as the only reminder to parties subject to administrative protective order (APO) of their responsibility concerning the return/destruction or conversion to judicial protective order of proprietary information disclosed under APO in accordance with 19 CFR 351.305(a)(3). Failure to comply is a violation of the APO.

This determination is issued and published in accordance with sections 751(a)(1) and 777(i)(1) of the Act.

Dated: July 14, 2008.
David M. Spooner,
Assistant Secretary for Import Administration.

Appendix I

List of Issues

Company-Specific Issues

Comment 1: The Bona Fides of QHD Sanhai’s Single POR Sale

Comment 2: Selection of Mandatory Respondents-Zhejiang

Comment 3: Selection of the Appropriate Separate Rate Applied to Zhejiang’s Sales

General Issues

Comment 4: Selection of Appropriate Surrogate Value for Raw Honey

Comment 5: Selection of Appropriate Surrogate Values-Coal, Labels, and Aluminum Seals

¹ See April 18, 2008, letter from the Department of Commerce, to All Interested Parties, regarding 2005/2006 Administrative Review of Honey from the People’s Republic of China (“April 2008, Letter”).

² Due to the business proprietary nature of various comments from both petitioners and QHD Sanhai in their respective case and rebuttal briefs, the Department has addressed various comments in the Department’s Final Bona Fides Memorandum.

[FR Doc. E8-16624 Filed 7-18-08; 8:45 am]

BILLING CODE 3510-DS-S